DEPARTMENT OF DEFENSE

Defense Acquisition Regulations System

48 CFR Part 239

[Docket DARS-2015-0046]

RIN 0750-AI72

Defense Federal Acquisition Regulation Supplement: Long-Haul Telecommunications (DFARS Case 2015-D023)

AGENCY: Defense Acquisition Regulations System, Department of Defense (DoD).

ACTION: Final rule.

SUMMARY: DoD is issuing a final rule amending the Defense Federal Acquisition Regulation Supplement (DFARS) to add a definition of “long-haul telecommunications.”

DATES: Effective May 10, 2016.

FOR FURTHER INFORMATION CONTACT: Mr. Christopher Stiller, telephone 571-372-6176.

SUPPLEMENTARY INFORMATION:

I. Background

DoD published a proposed rule in the Federal Register at 80 FR 72674 on November 20, 2015, to revise DFARS subpart 239.74 to add “long-haul telecommunications” to the telecommunications services definitions and identify Defense Information Systems Agency as the procurer of long-haul telecommunications services for DoD, as mentioned in DoD Directive 5105.19, Defense Information Systems Agency. There were no public comments submitted in response to the proposed rule. There are no changes from the proposed rule made in the final rule.

II. Applicability to Contracts at or Below the Simplified Acquisition Threshold and for Commercial Items, Including Commercially Available Off-the-Shelf Items

This case does not add any new provisions or clauses or impact any existing provisions or clauses.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

IV. Regulatory Flexibility Act

A final regulatory flexibility analysis (FRFA) has been prepared consistent with the Regulatory Flexibility Act, 5 U.S.C. 601, et seq. The FRFA is summarized as follows:

The purpose of this final rule is to amend the Defense Federal Acquisition Regulation Supplement (DFARS) to add a definition of “long-haul telecommunications” and provide a pointer to DFARS Procedures, Guidance, and Information for procedures internal to DoD.

No comments were received from the public regarding the initial regulatory flexibility analysis.

The requirements under this rule will apply to long-haul telecommunications (Product Service Code D304) requirements as defined in the DoD Directive 5105.19, Defense Information Systems Agency. According to data available in the Federal Procurement Data System-Next Generation (FPDS-NG) for fiscal year 2014 through July 31, 2015, DoD awarded 13,596 new long-haul telecommunications contracts. Approximately 3 percent (451) of the total were awarded to small entities (comprised of 222 unique small entities).

This rule does not create any new reporting or recordkeeping requirements.

There are no known significant alternatives to the rule. The impact of this rule on small entities is not expected to be significant because it only affects DoD internal operating procedures.

V. Paperwork Reduction Act

The rule does not contain any information collection requirements that require the approval of the Office of Management and Budget under the Paperwork Reduction Act (44 U.S.C. chapter 35).

List of Subjects in 48 CFR Part 239

Government procurement.

Jennifer L. Hawes,
Editor, Defense Acquisition Regulations System.

Therefore, 48 CFR part 239 is amended as follows:

PART 239—ACQUISITION OF INFORMATION TECHNOLOGY

1. The authority citation for part 239 continues to read as follows:

Authority: 41 U.S.C. 1303 and 48 CFR chapter 1.

2. Amend section 239.7401 by—

a. Removing the alphabetical paragraph designation from each definition; and

b. Adding, in alphabetical order, a new definition for “Long-haul telecommunications”.

The addition reads as follows:

239.7401 Definitions.

* * * * *

Long-haul telecommunications means all general and special purpose long-distance telecommunications facilities and services (including commercial satellite services, terminal equipment and local circuitry supporting the long-haul service) to or from the post, camp, base, or station switch and/or main distribution frame (except for trunk lines to the first-serving commercial central office for local communications services).

* * * * *

3. Amend section 239.7402 by adding paragraph (d) to read as follows:

239.7402 Policy.

* * * * *

(d) Long-haul telecommunications services. When there is a requirement for procurement of long-haul telecommunications services, follow PGI 239.7402(d).

[FR Doc. 2016-10825 Filed 5-9-16; 8:45 am]

BILLING CODE 5001-06-P